DEPARTMENT OF COMMERCE

Foreign-Trade Zones Board

[B-11-2014]

Foreign-Trade Zone 87—Lake Charles, Louisiana, Notification of Proposed Production Activity, LEEVAC Shipyards, LLC (Shipbuilding), Lake Charles and Jennings, Louisiana

The Lake Charles Harbor and Terminal District, grantee of FTZ 87, submitted a notification of proposed production activity on behalf of LEEVAC Shipyards, LLC (LEEVAC), located in Lake Charles and Jennings, Louisiana. The notification conforming to the requirements of the regulations of the FTZ Board (15 CFR 400.22) was received on January 27, 2014.

The LEEVAC facilities are located at 111 Bunge Street, Jennings (Jefferson Davis Parish), Louisiana, and within Site 2 of FTZ 87 at 8200 Big Lake Road, Lake Charles (Calcasieu Parish), Louisiana. A separate application for subzone status at LEEVAC's Jennings shipyard was submitted and will be processed under Section 400.31 of the FTZ Board's regulations. The facilities are used for the construction and repair of oceangoing vessels. Pursuant to 15 CFR Section 400.14(b) of the regulations, FTZ activity would be limited to the specific foreign-status materials and components and specific finished products described in the submitted notification (as described below) and subsequently authorized by the FTZ Board.

Production under FTZ procedures could exempt LEEVAC from customs duty payments on foreign status components used in export production. On its domestic sales, LEEVAC would be able to choose the duty rate during customs entry procedures that applies to oceangoing vessels (free) for the foreign status inputs noted below. Customs duties also could possibly be deferred or reduced on foreign status production equipment.

The components and materials sourced from abroad include: Coatings/resins; fittings; flanges; boxes/crates; handles; knobs; floor coverings; plaster tiles; life jackets; insulation; tableware; metal pipe fittings/flanges/elbows/sleeves; anchors; steel wire; copper fittings/fasteners; nickel fittings; aluminum rods/profiles/fittings/ladders/hangers/forgings; lead pipes/fittings; zinc and tin tubes/pipes/fittings; base metal fittings; flexible tubing; boilers; steam and gas turbines and related parts; marine/diesel engines and related parts; hydrojet engines; turbine jets; fuel/cooling/ballast/macerator/hydraulic/bilge/sump/hydraulic/jet pumps and related parts; air/liquid compressors; turbochargers; winches; refrigeration/cooling equipment; heat exchangers; liquid purifiers; air/fuel filters; sprayers; derricks; deck machinery; evaporative air coolers; trash compactors; pressure/scupper/check/relief/gate/valves; roller bearings; transmissions and parts thereof (e.g., z-drives, shafts, gearboxes, clutches); pulleys; flywheels; acoustic baffles; propellers and blades; electric ballasts/motors/generators; generator sets; generator parts; transformers and related parts; starters; heaters and related parts; radio/TV/radar equipment; antennas; tuners; parts of signaling devices; electrical components and panels; switches/switching equipment; connectors; wiring harnesses; lamps; signal generators; displays; cables; mirrors; sonar apparatus; optical instruments; depth sounding equipment; micrometers and calipers; thermostats; chronometers; regulators; controllers; and, search lights (duty rate ranges from free to 6.7%; 17¢ each +2.5%, 1¢/jewel). The production activity under FTZ procedures would be subject to the “standard shipyard restriction” applicable to foreign origin steel mill products (e.g., angles, pipe, plate), which requires that LEEVAC must pay all applicable duties on such items.

Public comment is invited from interested parties. Submissions shall be addressed to the FTZ Board's Executive Secretary at the address below. The closing period for their receipt is March 25, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: February 6, 2014.
Andrew McGilvray,
Executive Secretary.

[FR Doc. 2014-03212 Filed 2-12-14; 8:45 am]

BILLING CODE P